DEPARTMENT OF HEALTH AND HUMAN SERVICES

Office of Inspector General

Agency Information Collection Activities: Proposed Collection and Comment Request (OIG-319-N)

AGENCY: Office of Inspector General (OIG), HHS.

ACTION: Notice.

SUMMARY: In compliance with the requirements of section 3506(c)(2)(A) of the Paperwork Reduction Act of 1995, the Office of Inspector General (OIG) is publishing for public comment the following summary of proposed collection activities. Interested parties are invited to send comments to the address indicated below regarding this burden estimate or any other aspect of this collection of information, including (1) the necessity and utility of proposed information collection for the proper performance of the OIG's functions; (2) the accuracy of the estimated burden; (3) ways to enhance the quality, utility, and clarity of the information to be collected; and (4) the use of automated collection techniques or other forms of information technology to minimize the information collection burden.

SUPPLEMENTARY INFORMATION: Type of Information Collection Request: Reinstatement of an expired collection.

Title of Information Collection: State Medicaid Fraud Control Units' Recertification Application and Annual Report as required by 42 CFR 1007.15 and 1007.17. (Previously approved by the Office of Management and Budget under control number 0990-0162.)

Use: The information contained in the annual reports and recertification application is required for certification and yearly recertification by the OIG to ensure that federal matching funds are only expended for allowable costs, and to determine if a state unit needs financial assistance.

Frequency: Annually.

Affected Public: State government.

Annual Number of Respondents: 48.

Total Annual Responses: 48.

Average Burden Per Response: 32 hours.

Total Annual Hours: 2,744 hours.

FOR FURTHER INFORMATION CONTACT: To obtain copies of the supporting statement and any related forms for the proposed paperwork collections referenced above, e-mail your request, including your address and phone number, to John Bettac, Office of Investigations (Jbettac@oig.hhs.gov), or call (202) 619-3557.

DATE: To assure consideration, public comments must be delivered to address provided below by no later than 5 p.m. on May 27, 2003.

ADDRESSES: Written comments and recommendations for proposed information collections should be mailed or delivered to the following address: Office of Inspector General, Department of Health and Human Services, Attention: John Bettac, Room 5453, Cohen Building, 330 Independence Avenue, SW., Washington, DC 20201.

We do not accept comments by facsimile (FAX) transmission. In commenting, please refer to file code OIG-319-N. Comments received timely will be available for public inspection as they are received beginning approximately 3 weeks after publication of a document in Room 5541 of the Office of Inspector General at 330 Independence Avenue, SW., Washington, DC on Monday through Friday of each week from 8:30 a.m. to 4:30 p.m.

Dated: March 20, 2003.
Brian P. Carman,
Chief Information Officer.

[FR Doc. 03-7220 Filed 3-25-03; 8:45 am]

BILLING CODE 4152-01-P